NATIONAL AERONAUTICS AND SPACE ADMINISTRATION

[Notice 05-008]

NASA Nuclear Systems Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Nuclear Systems Strategic Roadmap Committee.

DATES: Tuesday, February 15, 2005, 8 a.m. to 7:30 p.m., Wednesday, February 16, 2005, 8 a.m. to 7:30 p.m., eastern standard time.

ADDRESSES: University of Maryland University College, The Inn and Conference Center, 3501 University Blvd. E., Adelphi, MD 20783-7998, (301) 985-7303.

FOR FURTHER INFORMATION CONTACT: Ms. Victoria Friedensen, Exploration Systems Directorate, National Aeronautics and Space Administration, Washington, DC 20546, (202) 358-1916.

SUPPLEMENTARY INFORMATION: The meeting will be open to the public up to the seating capacity of the meeting room. Attendees will be requested to sign a register.

The agenda for the meeting is as follows:

—Launch Approval Processes

—Public Engagement

—Radioisotope-based Power Sources

—Fission-based Power Systems

—Nuclear Thermal Propulsion

It is imperative that the meeting be held on this date to accommodate the scheduling priorities of the key participants.

P. Diane Rausch,
Advisory Committee Management Officer, National Aeronautics and Space Administration.

[FR Doc. 05-1549 Filed 1-27-05; 8:45 am]

BILLING CODE 7510-13-P